DEPARTMENT OF EDUCATION

Office of Elementary and Secondary Education; Overview Information; Migrant Education Even Start Family Literacy Program; Notice Inviting Applications for New Awards for Fiscal Year (FY) 2010

Catalog of Federal Domestic Assistance (CFDA) Number: 84.214A.

Dates:

Applications Available: March 30, 2010.

Deadline for Transmittal of Applications: May 14, 2010.

Deadline for Intergovernmental Review: July 13, 2010.

Full Text of Announcement

I. Funding Opportunity Description

Purpose of Program: The Migrant Education Even Start (MEES) Family Literacy program is intended to help break the cycle of poverty and illiteracy of migratory agricultural or fishing families by improving the educational opportunities of these families through the integration of early childhood education, adult literacy or adult basic education, and parenting education into a unified family literacy program. This program is implemented through cooperative activities that build on high-quality existing community resources to create a new range of educational services for the most-in-need migratory agricultural or fishing families, promote the academic achievement of migratory children and adults, assist migratory children in meeting challenging State content standards and challenging State achievement standards, and use instructional programs based on scientifically based reading research on preventing and overcoming reading difficulties for children and adults. The application package contains a description of the 15 program elements that MEES projects must implement, as required by Title I, Part B, section 1235 of the Elementary and Secondary Education Act of 1965, as amended (ESEA).

Priority: This notice includes one competitive preference priority. This priority is from the Education Department General Administrative Regulations (EDGAR) that apply to this program (34 CFR 75.225).

Competitive Preference Priority: For FY 2010 and any subsequent year in which we make awards from the list of unfunded applicants from this competition, this priority is a competitive preference priority. Under 34 CFR 75.105(c)(2)(i), we award an additional five points to an application that meets this priority.

This priority is:

Novice Applicant

The applicant must be a “novice applicant.” Under 34 CFR 75.225 a novice applicant is an applicant that has never received a grant or subgrant under the MEES program; has never been a participant in a group application, submitted in accordance with §§ 75.127 through 75.129 of EDGAR, that received a grant under the MEES program; and has not had an active discretionary grant from the Federal Government in the five years before the deadline date for applications under the MEES program.

Program Authority: 20 U.S.C. 6381a(a)(1)(A).

Applicable Regulations: EDGAR in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Discretionary grants.

Estimated Available Funds: $1,196,500.

Contingent upon the availability of funds and the quality of applications, we may make additional awards in FY 2011 from the list of unfunded applicants from this competition.

Estimated Range of Awards: $250,000-$400,000 per year.

Estimated Average Size of Awards: $325,000 per year.

Estimated Number of Awards: 3.

Note: The Department is not bound by any estimates in this notice.

Project Period: Up to 48 months.

III. Eligibility Information

1. Eligible Applicants: Any State or local government entity, institution of higher education or non-profit organization is eligible to apply for a grant under the MEES Program. For example, the following types of entities are eligible to apply: State educational agencies (SEAs) that administer migrant education programs; local educational agencies (LEAs) that have a high percentage of migratory students; nonprofit community-based organizations that work with migratory agricultural or fishing families; and faith-based organizations that work with migratory agricultural or fishing families.

2. Cost Sharing or Matching: See section 1234(b) of the ESEA. MEES grants are funded for 48 months. The matching requirement for a new MEES program begins at 10 percent of the total cost of the project in the project's first year and increases incrementally as the project continues to receive Federal support, through 40 percent in its fourth budget cycle. Previously funded MEES projects may apply for a second 48-month cycle, where, in years 5 through 8, the project must provide a 50 percent cost share of the total cost of the project. Further, a current or former MEES project may apply for a third project cycle that would fund their ninth year and beyond. Those projects, beginning in year 9, must maintain a 65 percent cost share of the total cost of the project. See ESEA section 1234(b).

3. Other: Eligible MEES participants consist of migratory children and their parents who meet the definitions of a migratory child, a migratory agricultural worker, or a migratory fisher in 34 CFR 200.81, and who also meet the additional conditions specified in section 1236(a) of the ESEA.

IV. Application and Submission Information

1. Address to Request Application Package: DonnaMarie Fekete, U.S. Department of Education, Office of Migrant Education, 400 Maryland Avenue, SW., room 3E313, Washington, DC 20202-6135. Telephone: (202) 260-2815 or by e-mail: DonnaMarie.Fekete@ed.gov.

The application package content also can be viewed electronically at the following address: http://www.ed.gov/programs/MEES/applicant.html.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this competition.

Page Limit: The application narrative is where you, the applicant, address the selection criteria that reviewers use to evaluate your application. You must limit the application narrative to no more than 30 pages, using the following standards:

• A “page” is 8.5″ x 11″, on one side only, with 1″ margins at the top, bottom, and both sides.

• Double space (no more than three lines per vertical inch) all text in the application narrative (Part 4), including titles, headings, footnotes, quotations, references, and captions. However, you may single space all text in charts, tables, figures, and graphs. Charts, tables, figures, and graphs presented in the application narrative count toward the page limit.

• Use a font that is either 12 point or larger or no smaller than 10 pitch (characters per inch) throughout the entire application package.

Appendices must be limited to a total of 20 pages for all content and must include the following: Resumes, job descriptions of key personnel, and citations for the scientifically based reading research upon which your instructional programs are based. Job descriptions must include duties and minimum qualifications. Items in the appendices will only be used by the program office for the purpose of approving any future personnel changes.

The 30-page limit for the project narrative does not apply to the cover sheet; the budget section, including the narrative budget justification; the assurances and certifications; or the one-page abstract. However, the page limit does apply to all of the application narrative section.

Our reviewers will not read any pages of your application that exceed the page limit.

(3) Additionally, please limit other application materials to the specific materials indicated in the application package and do not include any video or other non-print materials.

3. Submission Dates and Times:

Applications Available: March 30, 2010.

Deadline for Transmittal of Applications: May 14, 2010.

Deadline for Intergovernmental Review: July 13, 2010. Applications for grants under this competition must be submitted electronically using the Electronic Grant Application System (e-Application) accessible through the Department's e-Grants site. For information (including dates and times) about how to submit your application electronically, or in paper format by mail or hand delivery if you qualify for an exception to the electronic submission requirement, please refer to section IV. 6.

Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: Recipients of a MEES Family Literacy program grant may not use funds awarded under this competition for the indirect costs of a project or claim indirect costs as part of the local project share. ((section 1234(b)(3)) of the ESEA) We reference regulations outlining additional funding restrictions in the Applicable Regulations section of this notice.

6. Other Submission Requirements: Applications for grants under this competition must be submitted electronically unless you qualify for an exception to this requirement in accordance with the instructions in this section.

a. Electronic Submission of Applications.

Applications for grants under the MEES Family Literacy Program, CFDA number 84.214A, must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30 p.m., Washington, DC time, on the application deadline date. E-Application will not accept an application for this competition after 4:30 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorized Representative must sign this form.

(3) Place the PR/Award number in the upper-right-hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: DonnaMarie Fekete, U.S. Department of Education, 400 Maryland Avenue, SW., 3E313, Washington, DC 20202-6135. FAX: (202) 205-0089.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.214A), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.214A), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria for this competition are from 34 CFR 75.210 of EDGAR and are listed in the application package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary in 34 CFR 75.118. The Secretary may also require more frequent performance reports under 34 CFR 75.720(c). For specific requirements on reporting, please go to http://www.ed.gov/fund/grant/apply/appforms/appforms.html.

4. Performance Measures: The Government Performance and Results Act (GPRA) directs Federal departments and agencies to improve the effectiveness of their programs by engaging in strategic planning, setting outcome-related goals for programs, and measuring program results against those goals. Program officials must develop performance measures for all of their grant programs in order to assess their performance and effectiveness. The Department has established a set of measures to assess the effectiveness of the Even Start program. The MEES Family Literacy projects will report data on the following measures: (1) The percentage of adults showing significant learning gains on measures of reading; (2) the percentage of limited English proficient (LEP) adults showing significant learning gains on measures of English language acquisition; (3) the percentage of school-age adults who earn a high school diploma or GED; (4) the percentage of non-school-age adults who earn a high school diploma or GED; (5) the percentage of children entering kindergarten who are achieving significant learning gains on measures of language development; (6) the average number of letters preschool-age children can identify; (7) the percentage of school-age children who are reading on grade level; and (8) percentage of parents who show improvement on measures of parental support for children's learning in the home, school environment, and through interactive learning activities.

VII. Agency Contact

FOR FURTHER INFORMATION CONTACT: DonnaMarie Fekete, U.S. Department of Education, Office of Migrant Education, 400 Maryland Avenue, SW., room 3E313, Washington, DC 20202-6135. Telephone Number: (202) 260-2815, or by e-mail: DonnaMarie.Fekete@ed.gov.

If you use a TDD, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 25, 2010.
Thelma Meléndez de Santa Ana,
Assistant Secretary for Elementary and Secondary Education.

[FR Doc. 2010-7112 Filed 3-29-10; 8:45 am]

BILLING CODE 4000-01-P